DEPARTMENT OF ENERGY

Federal Energy Regulatory Commission

Combined Notice of Filings

Take notice that the Commission has received the following Natural Gas Pipeline Rate and Refund Report filings:

Filings Instituting Proceedings

Docket Number: PR21-59-000.

Applicants: Arcadia Gas Storage, LLC.

Description: Submits tariff filing per 284.123(b),(e)/: MBR Authority Informational Notice, Compliance Dkt. Nos. PR09-15-000, PR16-9-000 to be effective N/A.

Filed Date: 8/10/2021.

Accession Number: 20210810-5033.

Comments/Protests Due: 5 p.m. ET 8/31/21.

Docket Numbers: RP21-1023-000.

Applicants: Pine Prairie Energy Center, LLC.

Description: Compliance filing: Informational Filing Re MBR Authority, Compliance Dkt. Nos. CP04-379 & CP11—to be effective N/A.

Filed Date: 8/10/21.

Accession Number: 20210810-5008.

Comment Date: 5 p.m. ET 8/23/21.

Docket Numbers: RP21-1024-000.

Applicants: SG Resources Mississippi, L.L.C.

Description: Compliance filing: Informational Filing Re MBR Authority, Compliance Dkt. No. CP02-229 to be effective N/A.

Filed Date: 8/10/21.

Accession Number: 20210810-5009.

Comment Date: 5 p.m. ET 8/23/21.

Docket Numbers: RP21-1025-000.

Applicants: Cadeville Gas Storage LLC.

Description: Compliance filing: MBR Authority Informational Notice, Compliance Dkt. No. CP10-16-000 to be effective N/A.

Filed Date: 8/10/21.

Accession Number: 20210810-5035.

Comment Date: 5 p.m. ET 8/23/21.

Docket Numbers: RP21-1026-000.

Applicants: Monroe Gas Storage Company, LLC.

Description: Compliance filing: MBR Authority Info Notice, Compliance Dkt. Nos. CP07-406/407/408-000, RP16-591-000 to be effective N/A.

Filed Date: 8/10/21.

Accession Number: 20210810-5036.

Comment Date: 5 p.m. ET 8/23/21.

Docket Numbers: RP21-1027-000.

Applicants: Perryville Gas Storage LLC.

Description: Compliance filing: MBR Authority Informational Notice, Compliance Dkt. Nos. CP09-418-000, CP11-159-000 to be effective N/A.

Filed Date: 8/10/21.

Accession Number: 20210810-5037.

Comment Date: 5 p.m. ET 8/23/21.

Docket Numbers: RP21-1028-000.

Applicants: Southwest Gas Storage Company.

Description: § 4(d) Rate Filing: Add Creditworthiness and Misc Housekeeping to be effective 9/10/2021.

Filed Date: 8/10/21.

Accession Number: 20210810-5073.

Comment Date: 5 p.m. ET 8/23/21.

Docket Numbers: RP21-1029-000.

Applicants: Southeast Supply Header, LLC.

Description: § 4(d) Rate Filing: FOSAs—Signature Block Modifications to be effective 9/10/2021.

Filed Date: 8/10/21.

Accession Number: 20210810-5089.

Comment Date: 5 p.m. ET 8/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2021.
Debbie-Anne A. Reese,
Deputy Secretary.

[FR Doc. 2021-17631 Filed 8-16-21; 8:45 am]

BILLING CODE 6717-01-P